DEPARTMENT OF AGRICULTURE

Forest Service

Notice of Lincoln County Resource Advisory Committee Meeting

AGENCY: Forest Service, USDA.

ACTION: Notice of meeting.

SUMMARY: Pursuant to the authorities in the Federal Advisory Committee Act (Public Law 92-463) and under the Secure Rural Schools and Community Self-Determination Act of 2000 (Public Law 106-393) the Kootenai National Forests' Lincoln County Resource Advisory Committee will meet on August 4, at 6 p.m. in Libby, Montana for a business meeting. The meeting is open to the public.

DATES: August 4, 2004.

ADDRESSES: The August 4, meeting will be held at the Kootenai National Forest Supervisor's Office, located at 1101 U.S. Highway 2 West, Libby, MT.

FOR FURTHER INFORMATION CONTACT: Barbara Edgmon, Committee Coordinator, Kootenai National Forest at (406) 293-6211 or e-mail bedgmon@fs.fed.us.

SUPPLEMENTARY INFORMATION: Agenda topics include status of approved projects, vote on the funding of project proposals for 2005 and receiving public comment. If the meeting date or location is changed, notice will be posted in the local newspapers, including the Daily Interlake based in Kalispell, MT.

Dated: July 21, 2004.
Bob Castaneda,
Forest Supervisor.

[FR Doc. 04-17211 Filed 7-28-04; 8:45 am]

BILLING CODE 3410-11-M